ENVIRONMENTAL PROTECTION AGENCY

[EPA-HQ-OPP-2018-0014; FRL-9996-82]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A, Table 1B, Table 1C, Table 1D, Table 1E and Table 2, pursuant to the Federal Insecticide, Fungicide, and Rodenticide Act (FIFRA). This cancellation order follows a May 31, 2019 Federal Register Notice of Receipt of Requests from the registrants listed in Table 3 of Unit II to voluntarily cancel and amend to terminate uses of certain product registrations. In the May 31, 2019 notice, EPA indicated that it would issue an order implementing the cancellations and amendments to terminate uses, unless the Agency received substantive comments within the 30-day comment period that would merit its further review of these requests, or unless the registrants withdrew their requests. The Agency received one anonymous public comment on the notice but didn't merit its further review of the requests. Further, two registrants did withdraw their requests. The Agency has removed the requests withdrawn by the registrants. Accordingly, EPA hereby issues in this notice a cancellation order granting the requested cancellations and amendments to terminate uses. Any distribution, sale, or use of the products subject to this cancellation order is permitted only in accordance with the terms of this order, including any existing stocks provisions.

DATES: The cancellations and amendments are effective August 21, 2019.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a). These registrations are listed in sequence by registration number in Tables 1, 1A, 1B, 1C, 1D, 1E and 2 of this unit.

Table 1—Product Cancellations
Registration No. | Company No. | Product name | Active ingredients
100-1083 | 100 | Doubleplay Selective Herbicide | Carbamothioic acid, dipropyl-, S-ethyl ester & Acetochlor.
279-3556 | 279 | Nic-It Herbicide | Nicosulfuron.
279-3577 | 279 | Solida Grande Herbicide | Rimsulfuron & Nicosulfuron.
279-3593 | 279 | Harrow Herbicide | Rimsulfuron & Thifensulfuron.
499-534 | 499 | TC 281 | Fludioxonil.
1258-161 | 1258 | HTH Dry Chlorinator Granular for Swimming Pools 70% | Calcium hypochlorite.
1258-162 | 1258 | HTH Dry Chlorinator for Swimming Pools Tablet 70% | Calcium hypochlorite.
1258-974 | 1258 | Calcium Hypochlorite Tablets—65 | Calcium hypochlorite.
1258-1064 | 1258 | Calcium Hypochlorite Sanitizer Tablets 60 | Calcium hypochlorite.
1258-1171 | 1258 | HTH Tablets 75 | Calcium hypochlorite.
1258-1218 | 1258 | Calcium Hypochlorite 20 Gram Tablets | Calcium hypochlorite.
1258-1240 | 1258 | HTH Granular Sanitizer/Shock | Calcium hypochlorite.
1258-1281 | 1258 | Pool Breeze Pool Care System Shock Treatment and Superchlorinator | Calcium hypochlorite.
1258-1333 | 1258 | AW08 | Calcium hypochlorite.
1258-1348 | 1258 | AW78 | Sodium hypochlorite.
1258-1356 | 1258 | AW88 (ICM) | Calcium hypochlorite.
1258-1357 | 1258 | AW88 (MASS) | Calcium hypochlorite.
1258-1360 | 1258 | AW91 (MASS) | Calcium hypochlorite.
1258-1362 | 1258 | AW91 (RPL) | Calcium hypochlorite.
1543-16 | 1543 | Leather Therapy | o-Phenylphenol (NO INERT USE).
2693-188 | 2693 | Intersmooth 365 Ecoloflex SPC Antifouling BEA 363 | Cuprous oxide & Zinc pyrithione.
2693-194 | 2693 | Optima Activator | Zinc pyrithione.
2693-200 | 2693 | Multi-Micron Antifouling-Blue | Cuprous oxide & Zinc pyrithione.
2693-222 | 2693 | Trilux CF—Black | Zinc pyrithione.
2693-223 | 2693 | Trilux ABF-White | Zinc pyrithione.
2749-587 | 2749 | Buprofezin 70WDG IGR | Buprofezin.
5185-459 | 5185 | Proteam HGH-Tech Tabs | Boron sodium oxide (B4Na2O7), pentahydrate & Trichloro-s-triazinetrione.
5481-525 | 5481 | Lorsban 15G Smartbox | Chlorpyrifos.
7969-93 | 7969 | FACET 50 WP | Quinclorac.
7969-113 | 7969 | PARAMOUNT HERBICIDE | Quinclorac.
7969-130 | 7969 | DRIVE 75 DF HERBICIDE | Quinclorac.
7969-152 | 7969 | PARAMOUNT BW HERBICIDE | Quinclorac & 2,4-D.
7969-158 | 7969 | FACET GR HERBICIDE 46 | Quinclorac.
7969-267 | 7969 | ONETIME HERBICIDE | Quinclorac; Dicamba & Mecoprop-P.
7969-313 | 7969 | FACET 75 DF HERBICIDE | Quinclorac.
7969-342 | 7969 | Boric Acid Granular Insect Bait | Boric acid.
10404-37 | 10404 | PCNB 12.5% Plus Fertilizer | Pentachloronitrobenzene.
10772-23 | 10772 | Capricorn | Tetraacetylethylenediamine & Sodium percarbonate.
19713-297 | 19713 | Ida Inc. Sodium Hypochlorite | Sodium hypochlorite.
19713-312 | 19713 | Drexel PCNB-2E Liquid | Pentachloronitrobenzene.
40810-19 | 40810 | Irgaguard(R) B502 1 | Silver & Zinc.
40810-23 | 40810 | Irgaguard B102 N | Silver & Zinc.
40810-25 | 40810 | Irgaguard B 102 Z | Zinc.
40810-26 | 40810 | Irgaguard B 102 M | Silver.
40810-27 | 40810 | Irgaguard B6000 | Zinc & Silver.
47033-20001 | 47033 | Cascade S100L | Sodium hypochlorite.
47371-191 | 47371 | Formulation HWS-512 | Alkyl* dimethyl benzyl ammonium chloride *(50%C14, 40%C12, 10%C16) & 1-Decanaminium, N-decyl-N,N-dimethyl-, chloride.
55852-4 | 55852 | SODIUM HYPOCHLORITE SOLUTION | Sodium hypochlorite.
67690-37 | 67690 | CuPro 2005 T/N/O | Copper hydroxide.
70506-277 | 70506 | Symmetry II | Copper carbonate, basic.
70627-69 | 70627 | Terrific Antibacterial Disinfectant Sanitizer | Alkyl* dimethyl ethylbenzyl ammonium chloride *(68%C12, 32%C14) & Alkyl* dimethyl benzyl ammonium chloride *(60%C14, 30%C16, 5%C18, 5%C12).
70627-73 | 70627 | Scrubbing Bubbles Disinfectant Bathroom Cleaner | 1-Decanaminium, N-decyl-N,N-dimethyl-, chloride; 1-Octanaminium, N,N-dimethyl-N-octyl-, chloride; 1-Decanaminium, N,N-dimethyl-N-octyl-, chloride & Alkyl* dimethyl benzyl ammonium chloride *(50%C14, 40%C12, 10%C16).
71326-2 | 71326 | Sweetwater Purifier Solution | Sodium hypochlorite.
87246-5 | 87246 | Protx2 AV | Poly(iminoimido carbonylimi/no imido carbonyliminohexa methylene) hydrochloride.
87373-21 | 87373 | ARG Oxamyl Technical | Oxamyl.
87373-22 | 87373 | ARG Oxamyl MUP | Oxamyl.
91234-53 | 91234 | A127.01 | Oxamyl.
91234-54 | 91234 | A127.02 | Oxamyl.
91234-99 | 91234 | A308.07 | Prodiamine & Sulfentrazone.
AR-090002 | 279 | Authority MTZ DF Herbicide | Metribuzin & Sulfentrazone.
AR-130005 | 69969 | Avipel Liquid Corn Seed Treatment | Anthraquinone.
CO-170001 | 5481 | Parazone 3SL | Paraquat dichloride.
CO-170002 | 5481 | Parazone 3SL | Paraquat dichloride.
OR-080036 | 400 | Vitaflo 280 | Thiram & Carboxin.
OR-980006 | 10163 | Gowan Cryolite Bait | Cryolite.
TX-190001 | 228 | NUP-17063 Herbicide | 2,4-DP-p, 2-ethylhexyl ester.
UT-180004 | 100 | Gramoxone SL 2.0 | Paraquat dichloride.
WA-090007 | 62719 | Rally 40WSP | Myclobutanil.
WA-110002 | 264 | Liberty 280 SL Herbicide | Glufosinate.
WA-110006 | 62719 | Entrust | Spinosad.
WA-130001 | 62719 | Crossbow | 2,4-D, butoxyethyl ester & Triclopyr, butoxyethyl ester.
WY-080001 | 400 | Comite | Propargite.

Table 1A—Product Cancellations
Registration No. | Company No. | Product name | Active ingredients
464-327 | 464 | Dowicil 150 Antimicrobial | 3,5,7-Triazatricyclo(3.3.1.1(superscript 3,7))decane, 1-(3-chloro-2-propenyl)-, chloride, (Z)-.
464-403 | 464 | Dowicil 75 Preservative | 1-(3-Chloroallyl)-3,5,7-triaza-1-azoniaadamantane chloride.

The registrants of the registrations in Table 1A, request the cancellations to be

effective on August 12, 2019.

Table 1B—Product Cancellations
Registration No. | Company No. | Product name | Active ingredients
1021-2576 | 1021 | MGK 2935 | Tetramethrin; Piperonyl butoxide & Phenothrin.

The registrant of the registration in Table 1B, requests the cancellation to be effective on October 01, 2020.

Table 1C—Product Cancellations
Registration No. | Company No. | Product name | Active ingredients
40810-18 | 40810 | Irgaguard B5000 | Silver & Zinc.
40810-24 | 40810 | Irgaguard B7000 | Zinc & Silver.

The registrant of the registrations in Table 1C, requests the cancellations to be effective on October 01, 2019.

Table 1D—Product Cancellations
Registration No. | Company No. | Product name | Active ingredients
56228-10 | 56228 | Compound DRC-1339 Concentrate—Feedlots | Starlicide.
56228-17 | 56228 | Compound DRC-1339 Concentrate—Gulls | Starlicide.
56228-28 | 56228 | Compound DRC-1339 Concentrate—Pigeons | Starlicide.
56228-30 | 56228 | Compound DRC-1339 Concentrate—Staging Areas | Starlicide.
ID-050013 | 56228 | Compound DRC-1339—Staging Areas | Starlicide.
ID-050014 | 56228 | Compound DRC-1339—Feedlots | Starlicide.
IN-040001 | 56228 | Compound DRC-1339 Concentrate for Staging Areas | Starlicide.
IN-080003 | 56228 | Compound DRC-1339 Concentrate Feedlots Indiana | Starlicide.
KY-020003 | 56228 | Compound DRC-1339 Concentrate—Feedlots | Starlicide.
MD-080005 | 56228 | Compound DRC-1339 Concentrate—Staging Areas—MD | Starlicide.
MS-050008 | 56228 | DRC-1339 | Starlicide.
ND-920001 | 56228 | Compound DRC-1339 Concentrate—Feedlots | Starlicide.
NE-100003 | 56228 | Compound DRC-1339 Concentrate—Staging Areas and Feedlots—Nebraska | Starlicide.
NM-110004 | 56228 | Compound DRC-1339 Concentrate—Staging Areas | Starlicide.
NV-020005 | 56228 | Compound DRC-1339 Concentrate—Staging Areas | Starlicide.
NV-040004 | 56228 | Compound DRC-1339 98% Concentrate—Livestock Nest & Fodder Depredations | Starlicide.
OK-990001 | 56228 | Compound DRC-1339 Concentrate—Staging Areas | Starlicide.
OR-010024 | 56228 | Compound DRC-1339 Concentrate—Staging Areas | Starlicide.
PA-050002 | 56228 | DRC-1339 | Starlicide.
SD-130001 | 56228 | Compound DRC-1339 Concentrate—Staging Areas | Starlicide.
TN-080003 | 56228 | Compound DRC-1339 Concentrate—Feedlots | Starlicide.
TN-080004 | 56228 | Compound DRC-1339 Concentrate—Staging Areas | Starlicide.
TX-020003 | 56228 | Compound DRC-1339 Concentrate—Staging Areas | Starlicide.
TX-890001 | 56228 | Compound DRC-1339 Concentrate—Feedlots | Starlicide.
UT-130005 | 56228 | Compound DRC-1339 98% Concentrate—Livestock Nest & Fodder Depredations | Starlicide.
WV-010002 | 56228 | Compound DRC-1339 Concentrate—Staging Areas | Starlicide.
WV-040001 | 56228 | Compound DRC-1339 Concentrate—Staging Areas | Starlicide.
WV-110001 | 56228 | Compound DRC-1339 Concentrate—Staging Areas | Starlicide.

The registrant of the registrations in Table 1D, requests the cancellations to be effective on December 31, 2018.

Table 1E—Product Cancellations
Registration No. | Company No. | Product name | Active ingredients
WA-180007 | 92120 | Hazel | 1-Methylcyclopropene.

The registrant of the registration in Table 1E, requests the cancellation to be effective on October 12, 2018.

Table 2—Product Registration Amendments To Terminate Uses
Registration No. | Company No. | Product name | Active ingredient | Uses to be terminated
432-978 | 432 | Stabilene Fly Repellent Insecticide | Stabilene | Companion animal uses.
1381-255 | 1381 | Saddle-Up | 2,4-D & Dicamba | Forest management use pattern.
34704-1100 | 34704 | LPI Tebuconazole Technical | Tebuconazole | Wood treatment uses.
45385-99 | 45385 | Cenol 0.5% Multipurpose Insecticide | Permethrin | Food animals (livestock) uses.

Table 3 of this unit includes the names and addresses of record for all registrants of the products in Tables 1, 1A, 1B, 1C, 1D, 1E and 2 of this unit, in sequence by EPA company number. This number corresponds to the first part of the EPA registration numbers of the products listed above.

Table 3—Registrants of Cancelled and Amended Products
EPA company No. | Company name and address
100 | Syngenta Crop Protection, LLC, Swing Road, P.O. Box 18300, Greensboro, NC 27419-8300.
228 | NuFarm Americas, Inc., 4020 Aerial Center Pkwy., Ste. 101, Morrisville, NC 27560.
264 | Bayer CropScience, LP, 800 N. Lindbergh Blvd., St. Louis, MO 63167.
279 | FMC Corporation, 2929 Walnut Street, Philadelphia, PA 19104.
400 | Macdermid Agricultural Solutions Inc., C/O Arysta LifeScience North America, LLC, 15401 Weston Parkway, Suite 150, Cary, NC 27513.
432 | Bayer Environmental Science, A Division of Bayer CropScience, LP, 5000 CentreGreen Way, Suite 400, Cary, NC 27513.
464 | DDP Specialty Electronic Materials US, Inc., A wholly owned Subsidiary of The Dow Chemical Company, 1501 Larkin Center Drive, Midland, MI 48674.
499 | BASF Corporation, 26 Davis Drive, P.O. Box 13528, Research Triangle Park, NC 27709-3528.
1021 | Mclaughlin Gormley King Company, D/B/A MGK, 8810 Tenth Ave North, Minneapolis, MN 55427-4319.
1258 | Arch Chemicals, Inc., 1200 Bluegrass Lakes Parkway, Alpharetta, GA 30004.
1381 | Winfield Solutions, LLC, P.O. Box 64589, St. Paul, MN 55164-0589.
1543 | W.F. Young, Inc., 302 Benton Drive, East Longmeadow, MA 01028.
1769 | NCH Corp, 2727 Chemsearch Blvd., Irving, TX 75062.
2693 | International Paint, LLC, 6001 Antoine Drive, Houston, TX 77091.
2749 | Aceto Agricultural Chemicals Corp., 4 Tri Harbor Court, Port Washington, NY 11050-4661.
5185 | Bio-Lab, Inc., P.O. Box 300002, Lawrenceville, GA 30049-1002.
5481 | Amvac Chemical Corporation, 4695 Macarthur Court, Suite 1200, Newport Beach, CA 92660-1706.
7969 | BASF Corporation, Agricultural Products, 26 Davis Drive, P.O. Box 13528, Research Triangle Park, NC 27709-3528.
10163 | Gowan Company, P.O. Box 5569, Yuma, AZ 85366.
10404 | Lesco, Inc., 1385 East 36th Street, Cleveland, OH 44114-4114.
10772 | Church & Dwight Co., Inc., Agent Name: Landis International, Inc., P.O. Box 5126, Valdosta, GA 31603-5126.
19713 | Drexel Chemical Company, P.O. Box 13327, Memphis, TN 38113-0327.
34704 | Loveland Products, Inc., P.O. Box 1286, Greeley, CO 80632-1286.
40810 | BASF Corporation, 100 Park Avenue, Florham Park, NJ 07932.
45385 | CTX-Cenol, Inc., 1393 East Highland Rd., Twinsburg, OH 44087.
47033 | Cascade Water Services, Inc., 113 Bloomingdale Rd., Hicksville, NY 11801.
47371 | H&S Chemicals Division of Lonza, Inc., 412 Mount Kemble Avenue, Suite 200S, Morristown, NJ 07960.
55852 | Champion Packaging & Distribution, Inc., Agent Name: Technology Sciences Group, Inc., 1150 18th St. NW, Suite 1000, Washington, DC 20036.
56228 | U.S. Department of Agriculture, Animal and Plant Health Inspection Service, 4700 River Road, Unit 149, Riverdale, MD 20737.
62719 | Dow Agrosciences LLC, 9330 Zionsville Rd., 308/2e, Indianapolis, IN 46268-1054.
67690 | Sepro Corporation, 11550 N. Meridian St., Suite 600, Carmel, IN 46032-4565.
69969 | Arkion Life Sciences, LLC, Agent Name: Landis International, Inc., 3815 Madison Highway, P.O. Box 5126, Valdosta, GA 31603-5126.
70506 | UPL NA, Inc., D/B/A United Phosphorus, Inc., 630 Freedom Business Center, Suite 402, King of Prussia, PA 19406.
70627 | Diversey, Inc., P.O. Box 19747, Charlotte, NC 28219-0747.
71326 | Cascade Designs, Inc., 4000 1st Avenue South, Seattle, WA 98134.
87246 | Intelligent Fabric Technologies (North America), Inc., Agent Name: Intertek Surveying Services, 16441 Space Center Blvd., Suite D-100, Houston, TX 77058.
87373 | Argite, LLC, Agent Name: Pyxis Regulatory Consulting, Inc., 4110 136th Street Ct. NW, Gig Harbor, WA 98332-9122.
91234 | Atticus, LLC, Agent Name: Pyxis Regulatory Consulting, Inc., 4110 136th Street Ct. NW, Gig Harbor, WA 98332-9122.
92120 | Hazel Technologies, Inc., Agent Name: The Acta Group, 2200 Penn. Ave. NW, Suite 100W, Washington, DC 20037.

III. Summary of Public Comments Received and Agency Response to Comments

The Agency received one anonymous public comment on the notice. For this reason, the Agency does not believe that the comment submitted during the comment period merits further review or a denial of the requests for voluntary cancellation and use termination. Further, two registrants did withdraw their requests. The Agency received a withdrawal request from the registrant, Koopers Performance Chemicals, to withdraw the cancellation request for product registration 3008-91 and AEF Global, Inc., to withdraw the cancellation requests for product registrations 89046-11, 89046-12 and 89046-14.

Therefore, the Agency has removed these requests from this cancellation order and the registrations will remain active.

IV. Cancellation Order

Pursuant to FIFRA section 6(f) (7 U.S.C. 136d(f)(1)), EPA hereby approves the requested cancellations and amendments to terminate uses of the registrations identified in Tables 1, 1A, 1B, 1C, 1D, 1E and 2 of Unit II. Accordingly, the Agency hereby orders that the product registrations identified in Tables 1, 1A, 1B, 1C, 1D, 1E and 2 of Unit II are canceled and amended to terminate the affected uses. The effective date of the cancellations that are subject of this notice August 21, 2019. Any distribution, sale, or use of existing stocks of the products identified in Tables 1, 1A, 1B, 1C, 1D, 1E and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of May 31, 2019 (84 FR 25258) (FRL-9993-41). The comment period closed on July 1, 2019.

VI. Provisions for Disposition of Existing Stocks

Existing stocks are those stocks of registered pesticide products which are currently in the United States and which were packaged, labeled, and released for shipment prior to the effective date of the action. The existing stocks provision for the products subject to this order is as follows.

A. For products: 464-327 and 464-403

The registrant has requested the cancellation effective date to be August 12, 2019, therefore, the registrant may continue to sell and distribute existing stocks of products listed in Table 1A until August 12, 2020, which is 1 year after the effective cancellation date. Thereafter, the registrant is prohibited from selling or distributing products listed in Table 1A of Unit II, except for export in accordance with FIFRA section 17 (7 U.S.C. 136o) or for proper disposal.

B. For product: 1021-2576

The registrant has requested the cancellation effective date to be October 1, 2020, therefore, the registrant may continue to sell and distribute existing stocks of products listed in Table 1B until October 1, 2021, which is 1 year after the effective cancellation date. Thereafter, the registrant is prohibited from selling or distributing products listed in Table 1B of Unit II, except for export in accordance with FIFRA section 17 (7 U.S.C. 136o) or for proper disposal.

C. For products: 40810-18 and 40810-24

The registrant has requested the cancellation effective date to be October 1, 2019. The registrant also requested to the Agency via letter to sell existing stocks for an 18-month period, therefore, the registrant may continue to sell and distribute existing stocks of products listed in Table 1C until April 1, 2021, which is 18 months after the effective cancellation date. Thereafter, the registrants are prohibited from selling or distributing products listed in Table 1C of Unit II, except for export in accordance with FIFRA section 17 (7 U.S.C. 136o) or for proper disposal.

D. For products: 40810-19, 40810-23, 40810-25, 40810-26, 40810-27 and 55852-4

The registrants have requested to the Agency via letter to sell existing stocks for an 18-month period, for products 40810-19, 40810-23, 40810-25, 40810-26, 40810-27 and 55852-4. The registrants may continue to sell and distribute existing stocks of products 40810-19, 40810-23, 40810-25, 40810-26, 40810-27 and 55852-4 until February 22, 2021, which is 18 months after publication of this cancellation order in the Federal Register. Thereafter, the registrants are prohibited from selling or distributing products 40810-19, 40810-23, 40810-25, 40810-26, 40810-27 and 55852-4, except for export in accordance with FIFRA section 17 (7 U.S.C. 136o) or for proper disposal.

E. For all products listed in Table 1D

The registrants have requested the cancellation effective date to be December 31, 2018, therefore, the registrants may continue to sell and distribute existing stocks of products listed in Table 1D until December 31, 2019 which is 1 year after the effective cancellation date. Thereafter, the registrants are prohibited from selling or distributing products listed in Table 1D of Unit II, except for export in accordance with FIFRA section 17 (7 U.S.C. 136o) or for proper disposal.

F. For product: WA-180007

The registrant has requested the cancellation effective date to be October 12, 2018, therefore, the registrants may continue to sell and distribute existing stocks of the product listed in Table 1E until October 12, 2019 which is 1 year after the effective cancellation date. Thereafter, the registrant is prohibited from selling or distributing the product listed in Table 1E of Unit II, except for export in accordance with FIFRA section 17 (7 U.S.C. 136o) or for proper disposal.

For all other voluntary cancellations, listed in Table 1 of Unit II the registrants may continue to sell and distribute existing stocks of products listed in Table 1 until August 21, 2020, which is 1-year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until February 22, 2021, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: July 29, 2019.
Delores Barber,
Director, Information Technology and Resources Management Division, Office of Pesticide Programs.

[FR Doc. 2019-17992 Filed 8-20-19; 8:45 am]

BILLING CODE 6560-50-P